DEPARTMENT OF COMMERCE

Bureau of Industry and Security

[05-BIS-09]

Action Affecting Export Privileges; Lawrence Scibetta, In the Matter of: Lawrence Scibetta, 137 Southwest Carter Avenue, Port St. Lucie, FL 34983; Respondent

Order

The Bureau of Industry and Security, United States Department of Commerce (“BIS”) has initiated an administrative proceeding against Lawrence Scibetta (“Scibetta”) pursuant to Section 766.3 of the Export Administration Regulations (“Regulations”),¹ and Section 13©) of the Export Administration Act of 1979, as amended (50 U.S.C. app. 2401-2420 (2000)) (“Act”),² through issuance of a charging letter to Scibetta that alleged that Scibetta committed five violations of the Regulations. Specifically, the charges are:

¹ The Regulations are currently codified in the Code of Federal Regulations at 15 CFR Parts 730-774 (2006). The alleged violations occurred in 2004. The Regulations governing the violations at issue are found in the 2004 version of the Code of Federal Regulations (15 CFR Parts 730-774 (2004)). The 2006 Regulations establish the procedures that apply to this matter.

² 50 U.S.C. app. 2401-2430 (2000). Since August 21, 2001, the Act has been in lapse and the President, through Executive Order 13222 of August 17, 2001 (3 CFR, 2001 Comp. 783 (2002)), as extended most recently by the Notice of August 3, 2006 (71 FR 44551 (August 7, 2006)), has continued the Regulations in effect under the International Emergency Economic Powers Act (50 U.S.C. 1701-1706 (2000)) (“IEEPA”).

Charge 1. One Violation of 15 C.F.R. § 764.2(c)—Attempted Violation of the Regulations:

On or about June 9, 2004, Scibetta committed a violation of the Regulations by attempting to export two thermal imaging cameras, items classified under Export Control Classification Number (“ECCN”) 6A003.b.4, from the United States to an entity in the United Arab Emirates (the “UAE”) without the Department of Commerce license required by Sections 742.4 and 742.6 of the Regulations.

Charge 2. One Violation of 15 CFR 764.2(e)—Acting with Knowledge of a Violation: In connection with the attempted export detailed in Charge 1, on or about June 1, 2004, Scibetta bought two thermal imaging cameras, items classified under ECCN 6A003.b.4, with the knowledge that a violation of the Regulations was about to occur. Specifically, Scibetta had knowledge that a Department of Commerce export license was required to export the cameras, and Scibetta bought the cameras with knowledge that the required export license would not be obtained prior to an attempt to export the cameras.

Charge 3. One Violation of 15 CFR 764.2(f)—Possession With Intent to Export Illegally: Charges 1-2 are incorporated herein by reference. On or around June 8 and June 9, 2004, Scibetta possessed two thermal imaging cameras, items controlled for national security reasons under the Act, with the intent to export such items in violation of the Regulations. On or around May 16, 2004, Scibetta was told by the U.S. supplier of the thermal imaging cameras that the cameras required a license for export. On or around June 8, 2004, Scibetta took possession of the cameras. From that moment until the moment when Scibetta consigned the cameras for shipment, Scibetta held the items with the intent to export them to the UAE without a license.

Charge 4. One Violation of 15 CFR 764.2(g)—Misrepresentation and Concealment of Facts: Charges 1-3 are incorporated herein by reference. On or about July 23, 2004, in the course of an investigation subject to the Regulations, Scibetta made a false statement directly to BIS. Specifically, he wrote in an affidavit, “I was never told that if [the camera] needed an export license. Up until today no one has ever told me that I need a license to ship this [the camera].” This statement is false because Scibetta was told on a number of occasions prior to the day of the affidavit, including a warning by the U.S. company from whom Scibetta purchased the cameras, that the cameras needed an export license.

Charge 5. One Violation of 15 CFR 764.2(h)—Evasion: Charges 1-4 are incorporated herein by reference. Between June 22 and June 25, 2004, Scibetta acted to arrange for the export of two thermal imaging cameras with intent to evade the provisions of the Regulations. Specifically, Scibetta continued to arrange for the unlicensed export of the cameras even after the cameras required a license to export.

Whereas Bis and Scibetta have entered into a Settlement Agreement pursuant to Section 766.18(b) of the Regulations whereby they agreed to settle this matter in accordance with the terms and conditions set forth therein, and

Whereas, I have approved such Settlement Agreement; It is Therefore Ordered:

First, that a civil penalty is assessed against Scibetta in the amount of $30,000.00, of which $5,000.00 shall be paid to the U.S. Department of Commerce not later than September 15, 2006; $5,000.00 shall be paid to the U.S. Department of Commerce not later than November 15, 2006; $5,000.00 shall be paid to the U.S. Department of Commerce not later than January 15, 2007; $5,000.00 shall be paid to the U.S. Department of Commerce not later than March 15, 2007; $5,000.00 shall be paid to the U.S. Department of Commerce not later than May 15, 2007; and $5,000.00 shall be paid to the U.S. Department of Commerce not later than July 15, 2007.

Second, that, pursuant to the Debt Collection Act of 1982, as amended (31 U.S.C. 3701-3720E (2000)), the civil penalty owed under this Order accrues interest as more fully described in the attached Notice, and, if payment is not made by the due date specified herein, Scibetta will be assessed, in addition to the full amount of the civil penalty and interest, a penalty charge and an administrative charge, as more fully described in the attached Notice.

Third, that the timely payment of the civil penalty set forth above is hereby made a condition to the granting, restoration, or continuing validity of any export license, license exception, permission, or privilege granted, or to be granted, to Scibetta. Accordingly, if Scibetta should fail to pay the civil penalty in a timely manner, the undersigned may enter an Order denying Scibetta's export privileges for a period of one year from the date of entry of this Order.

Fourth, that for a period of 20 years from the date of entry of the Order, Mr. Lawrence Scibetta, 137 Southwest Carter Avenue, Port St. Lucie, Florida 34983, and when acting for or on his behalf, his representatives, agents, assigns or employees (“Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

Fifth, that no person may, directly or indirectly, do any of the following:

A. Export or reexport to or on behalf of the Denied Person any item that is subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Sixth, that this Order does not prohibit any export, reexport, or other transaction subject to the Regulations where the only items involved that are subject to the Regulations are the foreign-produced direct product of U.S.-origin technology.

Seventh, that, after notice and opportunity for comment as provided in Section 766.23 of the Regulations, any person, firm, corporation, or business organization related to Scibetta by affiliation, ownership, control, or position of responsibility in the conduct of trade or related services may also be made subject to the provisions of the Order.

Eighth, that the charging letter, the Settlement Agreement, this Order, and the record of this case as defined by Section 766.20 of the Regulations shall be made available to the public.

Ninth, that the administrative law judge shall be notified that this case is withdrawn from adjudication.

Tenth, that this Order shall be served on the Denied Person and on BIS, and shall be published in the Federal Register.

This Order, which constitutes the final agency action in this matter, is effective immediately.

Entered this 14th day of August 2006.
Wendy L. Wysong,
Acting Assistant Secretary of Commerce for Export Enforcement.

[FR Doc. 06-7095 Filed 8-22-06; 8:45am]

BILLING CODE 3510-DT-M